DEPARTMENT OF ENERGY

Federal Energy Regulatory Commission

Combined Notice of Filings #1

Take notice that the Commission received the following exempt wholesale generator filings:

Docket Numbers: EG20-80-000.

Applicants: Great Bay Solar II, LLC.

Description: Notice of Self-Certification of Exempt Wholesale Generator Status of Great Bay Solar II, LLC.

Filed Date: 2/7/20.

Accession Number: 20200207-5140.

Comments Due: 5 p.m. ET 2/28/20.

Take notice that the Commission received the following electric rate filings:

Docket Numbers: ER20-791-001.

Applicants: Midcontinent Independent System Operator, Inc., Otter Tail Power Company.

Description: Tariff Amendment: 2020-02-10_SA 3386 OTP-Tatanka Ridge Wind Sub FSA (J493) Hankinson-Wahpeton to be effective 3/15/2020.

Filed Date: 2/10/20.

Accession Number: 20200210-5063.

Comments Due: 5 p.m. ET 3/2/20.

Docket Numbers: ER20-965-000.

Applicants: California Independent System Operator Corporation.

Description: Tariff Cancellation: 2020-02-07 Notice of Cancellation of RCSA with LADWP to be effective 1/24/2020.

Filed Date: 2/7/20.

Accession Number: 20200207-5122.

Comments Due: 5 p.m. ET 2/28/20.

Docket Numbers: ER20-966-000.

Applicants: Montana-Dakota Utilities Co.

Description: Request for Limited Waiver, et al. of Montana-Dakota Utilities Co.

Filed Date: 2/7/20.

Accession Number: 20200207-5182.

Comments Due: 5 p.m. ET 2/28/20.

Docket Numbers: ER20-967-000.

Applicants: Great Bay Solar II, LLC.

Description: Baseline eTariff Filing: MBR Application and Tariff to be effective 3/15/2020.

Filed Date: 2/10/20.

Accession Number: 20200210-5042.

Comments Due: 5 p.m. ET 3/2/20.

Docket Numbers: ER20-968-000.

Applicants: PacifiCorp.

Description: § 205(d) Rate Filing: BPA Metering Agreement—WEID to be effective 2/11/2020.

Filed Date: 2/10/20.

Accession Number: 20200210-5072.

Comments Due: 5 p.m. ET 3/2/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 10, 2020.
Nathaniel J. Davis, Sr.,
Deputy Secretary.

[FR Doc. 2020-03061 Filed 2-14-20; 8:45 am]

BILLING CODE 6717-01-P